DEPARTMENT OF ENERGY

Federal Energy Regulatory Commission

Combined Notice of Filings

Take notice that the Commission has received the following Natural Gas Pipeline Rate and Refund Report filings:

Filings Instituting Proceedings

Docket Numbers: RP15-23-010

Applicants: Transwestern Pipeline Company, LLC

Description: Compliance filing per 154.203: RP15-23-009 Settlement Compliance Filing Correction to be effective 12/1/2015

Filed Date: 12/23/15

Accession Number: 20151223-5166

Comments Due: 5 p.m. ET 12/30/15

Docket Numbers: RP16-319-000

Applicants: Alliance Pipeline L.P.

Description: § 4(d) rate filing per 154.204: Bantry Waiver Amendment to be effective 1/1/2016

Filed Date: 12/23/15

Accession Number: 20151223-5154

Comments Due: 5 p.m. ET 1/4/16

Docket Numbers: RP16-320-000

Applicants: Alliance Pipeline L.P.

Description: § 4(d) rate filing per 154.204: Seasonal Service Jan 1-Mar 31 2016 to be effective 1/1/2016

Filed Date: 12/23/15

Accession Number: 20151223-5155

Comments Due: 5 p.m. ET 1/4/16

Docket Numbers: RP16-321-000

Applicants: Questar Pipeline Company

Description: § 4(d) rate filing per 154.204: Updated CHDP Zone map and related provisions, and certain balancing provisions to be effective 1/25/2016

Filed Date: 12/24/15

Accession Number: 20151224-5028

Comments Due: 5 p.m. ET 1/5/16

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 24, 2015.
Nathaniel J. Davis, Sr.,
Deputy Secretary

[FR Doc. 2015-32921 Filed 12-30-15; 8:45 am]

BILLING CODE 6717-01-P